DEPARTMENT OF ENERGY

Federal Energy Regulatory Commission

[Project Nos. 2281 and 4851]

Pacific Gas and Electric Company; Notice of Authorization for Continued Project Operation

April 14, 2009.

On March 30, 2007, Pacific Gas and Electric Company, licensee for the Woodleaf-Kanaka Junction Transmission Line and Sly Creek Transmission Line Projects, filed Applications for a New License pursuant to the Federal Power Act (FPA) and the Commission's regulations thereunder. The Woodleaf-Kanaka Junction Transmission Line is located in Butte County, California, within the South Fork Feather River watershed, and the Sly Creek Transmission Line is located in the Sierra Nevada Range, also in Butte County, California.

The licenses for Project Nos. 2281 and 4851 were issued for a period ending March 31, 2009. Section 15(a)(1) of the FPA, 16 U.S.C. 808(a)(1), requires the Commission, at the expiration of a license term, to issue from year-to-year an annual license to the then licensee under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the projects are subject to section 15 of the FPA, notice is hereby given that annual licenses for Projects Nos. 2281 and 4851 are issued to the Pacific Gas and Electric Company for a period effective April 1, 2009 through March 31, 2010, or until the issuance of new licenses for the projects or other disposition under the FPA, whichever comes first. If issuance of new licenses (or other disposition) does not take place on or before March 31, 2010, notice is hereby given that, pursuant to 18 CFR 16.18(c), annual licenses under section 15(a)(1) of the FPA are renewed automatically without further order or notice by the Commission, unless the Commission orders otherwise. If the projects are not subject to section 15 of the FPA, notice is hereby given that the Pacific Gas and Electric Company is authorized to continue operation of the Woodleaf-Kanaka Junction Transmission Line and Sly Creek Transmission Line Projects, until such time as the Commission acts on its application for a subsequent license.

Kimberly D. Bose,
Secretary.

[FR Doc. E9-9083 Filed 4-20-09; 8:45 am]

BILLING CODE 6717-01-P